U.S.-CHINA ECONOMIC AND SECURITY REVIEW COMMISSION

Notice of Open Meetings To Prepare the 2015 Annual Report to Congress; Advisory Committee: U.S.-China Economic and Security Review Commission; Correction

AGENCY: U.S.-China Economic and Security Review Commission.

ACTION: Notice; date change.

SUMMARY: The U.S.-China Commission published a document in the Federal Register on June 15, 2015, concerning notice of open meetings to be held in Washington, DC to review and edit drafts of the 2015 Annual Report to Congress. The document contained a meeting date that has changed.

FOR FURTHER INFORMATION CONTACT: Rickisha Berrien-Lopez, 202-624-1454.

Correction:

In the Federal Register of July 15, 2015, in FR Doc. 2015-14456 on page 34199, in the third column, correct the “Dates, Times, and Room Locations” caption to read:

• Wednesday, July 8, 2015 (9:00 a.m. to 5:00 p.m.). May continue to Thursday, July 9 if necessary—Room 231.

• Tuesday, August 11, 2015 (9:00 a.m. to 5:00 p.m.). May continue to Wednesday, August 12 if necessary—Room 231.

• Wednesday, September 16, 2015 (9:00 a.m. to 5:00 p.m.). May continue to Thursday, September 17 if necessary—Room 231.

• Wednesday, October 07, 2015 (9:00 a.m. to 5:00 p.m.) May continue to Thursday, October 08 if necessary—Room 231.

Dated: July 21, 2015.
Michael Danis,
Executive Director, U.S.-China Economic and Security Review Commission.

[FR Doc. 2015-18238 Filed 7-23-15; 8:45 am]

BILLING CODE 1137-00-P